DEPARTMENT OF ENERGY

Federal Energy Regulatory Commission

[Docket No. RP96-312-041]

Tennessee Gas Pipeline Company; Notice of Negotiated Rate Filing

Correction

In notice document 01-8779 appearing on page 18622, in the issue of Tuesday, April 10, 2001, make the following correction:

On page 8779, in the second column, the docket line is corrected to read as set forth above.

[FR Doc. C1-8779 Filed 4-16-01; 8:45 am]

BILLING CODE 1505-01-D CORRECTIONS

SECURITIES AND EXCHANGE COMMISSION

[Release No. 34-44144; File No. SR-NASD-00-81]

Self Regulatory Organizations; Order Granting Approval of Proposed Rule Change by the National Association of Securities Dealers, Inc. Relating to Computer to Computer Interface Fees for Non-NASD Members

Correction

In notice document 01-8472 beginning on page 18332 in the issue of Friday, April 6, 2001, the headings are corrected as set forth above.

[FR Doc. C1-8472 Filed 4-16-01; 8:45 am]

BILLING CODE 1505-01-D